DEPARTMENT OF ENERGY

Office of Energy Efficiency and Renewable Energy

Agency Information Collection Extension

AGENCY: Office of Energy Efficiency and Renewable Energy, U.S. Department of Energy.

ACTION: Submission for Office of Management and Budget (OMB) review; comment request.

SUMMARY: The Department of Energy (DOE) has submitted an information collection request to the OMB for extension under the provisions of the Paperwork Reduction Act of 1995. The information collection requests a three-year extension of its Better Buildings, Better Plants Program Voluntary Pledge Program, OMB Control Number 1910-5141. The proposed collection will be used to evaluate the success of the voluntary agreements made through the DOE's Better Buildings, Better Plants Program. The information to be collected from Partner plants includes: background data, including contact information, information on primary energy consumption and energy saving, high level descriptions of implemented energy projects, and annual and cumulative energy intensity progress. The results of the Better Buildings, Better Plants Voluntary Pledge Report will only be published in program evaluation and metrics documentation. Results will be published in aggregate to report the impact of the DOE program in a report that must be submitted to Congress in 2012 and 2017.

DATES: Comments regarding this collection must be received on or before April 18, 2012. If you anticipate that you will be submitting comments, but find it difficult to do so within the period of time allowed by this notice, please advise the OMB Desk Officer of your intention to make a submission as soon as possible. The Desk Officer may be telephoned at (202) 395-4650.

ADDRESSES: Written comments should be sent to the DOE Desk Officer, Office of Information and Regulatory Affairs, Office of Management and Budget, New Executive Office Building, Room 10102, 735 17th Street NW., Washington, DC 20503; and to Andre de Fontaine, EE-2F/Forrestal Building, 1000 Independence Avenue SW., 20585 or by fax at (202) 586-5234 or by email at andre.defontaine@EE.doe.gov.

FOR FURTHER INFORMATION CONTACT: Requests for additional information or copies of the information collection instrument and instructions should be directed to Andre de Fontaine, EE-2F/Forrestal Building, 1000 Independence Avenue SW., 20585 or by fax at (202) 586-5234 or by email at andre.defontaine@EE.doe.gov.

SUPPLEMENTARY INFORMATION: This information collection request contains:

(1) OMB No.: 1910-5141;

(2) Information Collection Request Title: Better Buildings, Better Plants Program Voluntary Pledge Program;

(3) Type of Review: Renewal;

(4) Purpose: The information being collected is needed to evaluate the success of the voluntary agreements made through the Department of Energy's (DOE) Better Buildings, Better Plants (BBBP) Program. The BBBP Program is a voluntary initiative, created to support congress's Energy Policy Act of 2005, as amended, section 106, for any company interested in reducing their energy intensity by 25 percent or more in ten years. The program is specifically designed to encourage and recognize United States companies that are in the vanguard of energy efficiency and will lead all industrial facilities by establishing and achieving ambitious energy goals. All companies participating in the program will receive technical support from DOE, and companies achieving the program's energy goals will also receive national recognition for their accomplishments. The information to be collected from Partner plants includes: background data, including contact information, information on primary energy consumption and energy saving, high level descriptions of implemented energy projects, and annual and cumulative energy intensity progress. The results of the Better Buildings, Better Plants Voluntary Pledge Report will only be published in program evaluation and metrics documentation. Results will be published in aggregate to report the impact of the DOE program in a report that must be submitted to Congress in 2012 and 2017.

(5) Annual Estimated Number of Respondents: 175;

(6) Annual Estimated Number of Total Responses: 175;

(7) Annual Estimated Number of Burden Hours: 2,710;

(8) Annual Estimated Reporting and Recordkeeping Cost Burden: $0.

Statutory Authority: Section 106 of the Energy Policy Act of 2005, as amended, codified at 42 U.S.C. 15811.

Issued in Washington, DC, on March 13, 2012.
Leo Christodoulou,
Program Manager, Office of Advanced Manufacturing Program, Office of Energy Efficiency and Renewable Energy.

[FR Doc. 2012-6546 Filed 3-16-12; 8:45 am]

BILLING CODE 6450-01-P